NATIONAL AERONAUTICS AND SPACE ADMINISTRATION

[Notice: (19-013)]

NASA Advisory Council; Human Exploration and Operations Committee; Meeting

AGENCY: National Aeronautics and Space Administration.

ACTION: Notice of meeting.

SUMMARY: In accordance with the Federal Advisory Committee Act, Public Law 92-463, as amended, the National Aeronautics and Space Administration (NASA) announces a meeting of the Human Exploration and Operations Committee of the NASA Advisory Council (NAC). This Committee reports to the NAC.

DATES: Tuesday, April 30, 2019, 10:30 a.m.-5:15 p.m.; Wednesday, May 1, 2019, 8:00 a.m.-12:00 noon, Eastern Time.

ADDRESSES: NASA Headquarters, MIC 7, 7th Floor, 300 E Street SW, Washington, DC 20546.

FOR FURTHER INFORMATION CONTACT: Dr. Bette Siegel, Designated Federal Officer, Human Exploration and Operations Mission Directorate, NASA Headquarters, Washington, DC 20546, (202) 358-2245, or bette.siegel@nasa.gov.

SUPPLEMENTARY INFORMATION: The meeting will be open to the public up to the seating capacity of the room. This meeting is also available telephonically and by WebEx. You must use a touch tone phone to participate in this meeting. Any interested person may dial the toll free access number 1-888-324-9238 or toll access number 1-517-308-9132, and then the numeric participant passcode: 3403297, to participate in this meeting by telephone. NOTE: If dialing in, please mute your phone. The WebEx link is https://nasaenterprise.webex.com/nasaenterprise/ the meeting number is 901-378-288 and the password is Exploration@19 (case sensitive).

The agenda for the meeting includes the following topics:

—NASA Human Exploration and Operations Overview

—President's Proposed FY 2020 Budget Request

—International Space Station Update

—Commercial Crew Program

—Exploration Systems Program

—Human Lunar Exploration Update

—Evolving Space Communication and Navigation Technologies

Attendees will be required to sign a register and comply with NASA security requirements, including the presentation of a valid picture ID before receiving access to NASA Headquarters. Foreign nationals attending this meeting will be required to provide a copy of their passport and visa in addition to providing the following information no less than 10 days prior to the meeting: Full name; home address; gender; citizenship; date/city/country of birth; title, position or duties; visa information (number, type, expiration date); passport information (number, country, expiration date); employer/affiliation information (name of institution, address, country, telephone) of the position of attendee; and home address to Dr. Bette Siegel via email at bette.siegel@nasa.gov. To expedite admittance, U.S. citizens and Permanent Residents (green card holders) can submit identifying information 3 working days prior to the meeting to Dr. Bette Siegel via email at bette.siegel@nasa.gov. It is imperative that the meeting be held on this date to accommodate the scheduling priorities of the key participants.

Patricia Rausch,
Advisory Committee Management Officer, National Aeronautics and Space Administration.

[FR Doc. 2019-06872 Filed 4-5-19; 8:45 am]

BILLING CODE 7510-13-P